DEPARTMENT OF TRANSPORTATION

Federal Aviation Administration

Notice of Passenger Facility Charge (PFC) Approvals and Disapprovals

AGENCY: Federal Aviation Administration (FAA), DOT.

ACTION: Monthly Notice of PFC Approvals and Disapprovals. In June 2000, there were six applications approved. This notice also includes information on one application, approved in April 2000, inadvertently left off the April 2000 notice. Additionally, 13 approved amendments to previously approved applications are listed.

SUMMARY: The FAA publishes a monthly notice, as appropriate, of PFC approvals and disapprovals under the provisions of the Aviation Safety and Capacity Expansion Act of 1990 (Title IX of the Omnibus Budget Reconciliation Act of 1990) (Public Law 101-508) and Part 158 of the Federal Aviation Regulations (14 CFR Part 158). This notice is published pursuant to paragraph d of § 158.29.

PFC Applications Approved

Public Agency: Blair County Airport Authority, Martinsburg, Pennsylvania.

Application Number: 00-03-C-00-AOO.

Application Type: Impose and use a PFC.

PFC Level: $3.00.

Total PFC Revenue Approved in This Decision: $206,335.

Earliest Charge Effective Date: July 1, 2000.

Estimated Charge Expiration Date: November 1, 2002.

Class of Air Carriers Not Required To Collect PFC's: Air taxis/commercial operators.

Determination: Approved. Based on information contained in the public agency's application, the FAA has determined that the proposed class accounts for less than 1 percent of the total annual enplanements at Altoona-Blair County Airport.

Brief Description of Projects Approved for Collection and Use:

Preparation of PFC application.

Runway 12/30 and taxiway D lighting.

Security fencing.

Master plan update.

Brief Description of Projects Approved for Collection:

Avigation easement acquisition and obstruction removal.

Land acquisition.

Purchase of snow removal equipment (SRE).

Improve aircraft rescue and firefighting (ARFF)/SRE building.

Runway 12/30 rehabilitation.

Brief Description of Projects Withdrawn: Land acquisition for runway 12/30 extension.

Determination: This project was withdrawn by the public agency in its letter dated April 25, 2000. Therefore, the FAA did not rule on this project in this decision.

Decision Date: April 28, 2000.

For Further Information Contact: Roxane Wren, Harrisburg Airports District Office, (717) 730-2830.

Public Agency: Huntsville-Madison County Airport Authority, Huntsville, Alabama.

Application Number: 00-09-C-00-HSV.

Application Type: Impose and use a PFC.

PFC Level: $3.00.

Total PFC Revenue Approved in This Decision: $557,969.

Earliest Charge Effective Date: January 1, 2009.

Estimated Charge Expiration Date: June 1, 2009.

Class of Air Carriers Not Required To Collect PFC's: (1) Any air taxi/commercial operator having fewer than 500 annual enplanements; (2) certified air carriers having fewer than 500 annual enplanements; (3) certified route air carriers having fewer than 500 annual enplanements.

Determination: Approved. Based on information contained in the public agency's application, the FAA has determined that each proposed class accounts for less than 1 percent of the total annual enplanements at Huntsville International Airport.

Brief Description of Projects Approved for Collection and Use:

Air cargo expansion.

Replace airline counters/heating, ventilation, and air conditioning improvements.

Terminal renovations/baggage claim expansion design.

Year 2000 upgrades.

Security vehicle.

Access/security road.

Snozzle for crash vehicle.

Air carrier apron repair.

Two 7.5KV regulators.

Decision Date: June 6, 2000.

For Further Information Contact: Roderick T. Nicholson, Jackson Airports District Office, (601) 664-9884.

Public Agency: Puerto Rico Ports Authority, San Juan, Puerto Rico.

Application Number: 00-04-C-00-SJU.

Application Type: Impose and use a PFC.

PFC Level: $3.00.

Total PFC Revenue Approved in This Decision: $98,663,704.

Earliest Charge Effective Date: November 1, 2002.

Estimated Charge Expiration Date: November 1, 2020.

Class of Air Carriers Not Required To Collect PFC's: None.

Brief Description of Projects Approved for Collection at San Juan International Airport (SJU) and Use at SJU:

Development of utilities master plan.

Preliminary engineering for development of dual midfield cross taxiway system.

Environmental assessment for runway 26 safety area and extension of taxiway Sierra.

Computer controlled access system.

Acquire two runway sweepers.

Design and installation of terminal signage and airfield signage.

Design and build an ARFF facility.

Expansion of midfield taxiway.

Cargo access road.

Development of new south general aviation area (apron and taxiway).

Brief Description of Project Approved for Collection at SJU and Use at Fernando Ribas Dominici Airport: Develop an airport layout plan including property map.

Brief Description of Project Approved for Collection at SJU and Use at Humacao Regional Airport: Design and construct apron.

Brief Description of Projects Approved for Collection at SJU and Use at Rafael Hernandez Airport:

Installation of automatic weather observation system.

Relocation of taxiway A.

Preliminary engineering runway reconstruction.

Final design runway reconstruction.

Reconstruct runway.

Brief Description of Project Partially Approved for Collection at SJU and Use at Rafael Hernandez Airport: Improve­ments to computer controlled access system.

Determination: Partially approved. The approved amount was reduced from that requested due to funding provided by an Airport Improvement Program (AIP) grant.

Brief Description of Project Partially Approved for Collection at SJU and Use at San Antonio Rivera Rodriguez Airport: Runway obstruction removal, threshold relocation, and associated taxiway work.

Determination: Partially approved. The approved amount was reduced from that requested due to funding provided by an AIP grant.

Brief Description of Projects Approved for Collection at SJU and Use at Mercedita Airport:

Install airport signage.

Acquire jaws of life and safety equipment.

Improvements to computer controlled access system.

Acquire runway sweeper.

Install loading bridges.

Reconstruct taxiway light system.

Improve runway 12 safety area.

Reconstruct terminal apron.

Reconstruct runway and taxiway connectors.

Brief Description of Project Approved for Collection at SJU and Use at Benjamin Noriega Airport: Widen runway and extend taxiway; construct apron.

Brief Description of Projects Approved for Collection at SJU:

Construct standard safety area, runway 26.

Design extension, taxiway Sierra.

Decision Date: June 14, 2000.

For Further Information Contact: Ilia Quinones, Orlando Airports District Office, (407) 812-6331, ext. 30.

Public Agency: City of Lynchburg, Virginia.

Application Number: 00-02-C-00-LYH.

Application Type: Impose and use a PFC.

PFC Level: $3.00.

Total PFC Revenue Approved in This Decision: $832,756.

Earliest Charge Effective Date: September 1, 2000.

Estimated Charge Expiration Date: February 1, 2002.

Class of Air Carriers Not Required To Collect PFC's: Air taxi operators filing FAA Form 1800-31.

Determination: Approved. Based on information contained in the public agency's application, the FAA has determined that the approved class accounts for less than 1 percent of the total annual enplanements at Lynchburg Regional Airport.

Brief Description of Projects Approved for Collection and Use:

PFC formulation and annual administrative costs.

Construct airport service road.

Overlay runway 3/21.

Acquire land runway 21 runway protection zone.

Overlay general aviation apron.

Brief Description of Project Disapproved for Collection and Use: Relocate State Route 758 to recover full extended runway safety area to runway 21 (design only).

Determination: Disapproved. Two parcels of land must be acquired by the public agency in order to successfully accomplish the relocation of the highway. One of the necessary parcels included a life-estate clause in the purchase agreement. Therefore, the FAA has no reasonable expectation that the public agency will be able to acquire the parcel and, thus, begin the road relocation within the 2-year timeframe required by § 158.33(a)(1) and has disapproved the project.

Decision Date: June 16, 2000.

For Further Information Contact: Arthur Winder, Washington Airports District Office, (703) 661-1363.

Public Agency: Birmingham Airport Authority, Birmingham, Alabama.

Application Number: 00-03-C-00-BHM.

Application Type: Impose and use a PFC.

PFC Level: $3.00.

Total PFC Revenue Approved in This Decision: $8,000,000.

Earliest Charge Effective Date: October 1, 2000.

Estimated Charge Expiration Date: November 1, 2002.

Class of Air Carriers Not Required To Collect PFC's: Air taxi/commercial operators filing FAA Form 1800-31.

Determination: Approved. Based on information contained in the public agency's application, the FAA has determined that the approved class accounts for less than 1 percent of the total annual enplanements at Birmingham International Airport.

Brief Description of Project Approved for Collection and Use: Rehabilitate air carrier apron.

Decision Date: June 21, 2000.

For Further Information Contact: Keafur Grimes, Jackson Airports District Office, (601) 664-9886.

Public Agency: City of Pendleton, Oregon.

Application Number: 00-02-C-00-PDT.

Application Type: Impose and use a PFC.

PFC Level $3.00.

Total PFC Revenue Approved in This Decision: $303,739.

Earliest Charge Effective Date: December 1, 2002.

Estimated Charge Expiration Date: January 1, 2012.

Class of Air Carriers Not Required To Collect PFC's: Air taxi/commercial operators who conduct operations in air commerce carrying persons for compensation or hire.

Determination: Approved. Based on information contained in the public agency's application, the FAA has determined that the approved class accounts for less than 1 percent of the total annual enplanements at Eastern Oregon Regional Airport.

Brief Description of Projects Approved for Collection and Use:

Replace ARFF vehicle.

Rehabilitate pavement on west general aviation apron A.

Rehabilitate pavement of taxiway D.

Install precision approach path indicator on runway 25.

Rehabilitate runway 11/29.

Rehabilitate terminal apron.

Decision Date: June 23, 2000.

For Further Information Contact: Suzanne Lee-Pang, Seattle Airports District Office, (425) 227-2654.

Public Agency: City of Kansas City—Aviation Department, Kansas City, Missouri.

Application Number: 00-03-C-00-MCI.

Application Type: Impose and use a PFC.

PFC Level: $3.00.

Total PFC Revenue Approved in This Decision: $99,645,586.

Earliest Charge Effective Date: August 1, 2009.

Estimated Charge Expiration Date: May 1, 2013.

Class of Air Carriers Not Required To Collect PFC's: Air taxi/commercial operators filing FAA Form 1800-31.

Determination: Approved. Based on information contained in the public agency's application, the FAA has determined that the approved class accounts for less than 1 percent of the total annual enplanements at Kansas City International Airport (MCI).

Brief Description of Project Approved for Collection at MCI and Use at MCI:

Terminal equipment.

Airfield lighting generator.

Brief Description of Projects Approved for Collection at MCI and Use at Kansas City Downtown Airport (MKC): Relocate airfield generator.

Brief Description of Project Approved for Collection at MCI: Overlay runway 1/19-MKC.

Decision Date: June 29, 2000.

For Further Information Contact: Mark Schenkelberg, Central Region Airports Division, (816) 329-2645.

Amendments to PFC Approvals
Amendment No., city, state | Amendment approved date | Original approved net PFC revenue | Amended approved net PFC revenue | Original estimated charge exp. date | Amended estimated charge exp. date
97-03-CO-01-TYS, Knoxville, TN | 05/10/00 | $1,617,216 | $1,497,864 | 07/01/21 | 07/01/21
97-01-C-02-COD, Cody, WY | 06/06/00 | 123,662 | 123,441 | 07/01/02 | 07/01/02
92-01-C-02-PDX, Portland, OR | 06/06/00 | 22,000,000 | 22,000,000 | 05/01/16 | 05/01/16
95-01-C-01-PDT, Pendleton, OR | 06/07/00 | 153,381 | 182,801 | 01/01/02 | 12/01/02
96-03-C-01-MQT, Marquette, MI | 06/12/00 | 32,500 | 29,799 | 11/01/02 | 11/01/02
00-03-C-01-AOO, Altoona, PA | 06/15/00 | 206,335 | 223,500 | 11/01/02 | 03/01/03
95-02-C-02-COS, Colorado Springs, CO | 06/21/00 | 11,864,672 | 11,333,785 | 04/01/05 | 04/01/05
96-02-C-01-CPR, Casper, WY | 06/21/00 | 427,704 | 490,749 | 05/01/04 | 05/01/04
97-04-C-01-COS, Colorado Springs, CO | 06/26/00 | 15,050,000 | 0 | 05/01/04 | 01/01/01
98-05-C-01-COS, Colorado Springs, CO | 06/26/00 | 9,029,906 | 10,353,578 | 05/01/04 | 01/01/01
95-01-C-03-MCI, Kansas City, MO | 06/29/00 | 145,661,106 | 215,381,098 | 01/01/02 | 01/01/08
99-02-C-01-MCI, Kansas City, MO | 06/29/00 | 28,723,139 | 23,844,977 | 05/01/06 | 08/01/09
97-01-C-01-TUS, Tucson, AZ | 06/30/00 | 26,717,799 | 101,234,420 | 12/01/02 | 05/01/15

Issued in Washington, DC, on July 11, 2000.
Eric Gabler,
Manager, Passenger Facility Charge Branch.

[FR Doc. 00-18135 Filed 7-17-00; 8:45 am]

BILLING CODE 4910-13-M